FEDERAL COMMUNICATIONS COMMISSION

47 CFR Part 64

[CC Docket No. 98-67; DA 01-1555]

Provision of Improved Telecommunications Relay Service

AGENCY: Federal Communications Commission.

ACTION: Proposed rule.

SUMMARY: This document solicits additional comment on the provision of improved Telecommunications Relay Service (TRS). Title IV of the Americans with Disabilities Act (ADA) requires the Commission to promulgate regulations on TRS, to make available to Americans with hearing or speech disabilities telecommunications services that are functionally equivalent to those available to individuals without disabilities.

DATES: Comments are due on or before July 30, 2001 and reply comments are due on or before August 6, 2001.

ADDRESSES: Federal Communications Commission, 445 12th Street, S.W, Washington, DC 20554.

FOR FURTHER INFORMATION CONTACT: Dana Jackson, (202) 418-2247 (voice), (202) 418-7898 (TTY). This document is available to individuals with disabilities requiring accessible formats (electronic ASCII text, Braille, large print, and audio) by contacting Brian Millin at (202) 418-7426 (voice), (202) 418-7365 (TTY), or by sending an email to access@fcc.gov.

SUPPLEMENTARY INFORMATION: The Bureau is issuing this document to seek comment on WorldCom's Petition and additional issues associated with IP Relay. Comments already submitted in response to WorldCom's petition will be considered in this docket. All comments shall reference the docket number of this proceeding. Comments may be filed using the Commission's Electronic Comment Filing System (ECFS) or by filing paper copies. Comments filed through ECFS can be sent as an electronic file via the Internet to http://www.fcc.gov/e-file/ecfs.html. In completing the transmittal screen, commenters should include their full name, postal service mailing address, and the docket number of this proceeding. Parties who choose to file by paper must file an original and four copies of each filing with the Commission's Secretary (Magalie Roman Salas, Office of the Secretary, Federal Communications Commission, 445 12th Street, SW., Washington DC 20554) and a diskette copy to the Commission's copy contractor (International Transcription Service, Inc. (ITS), CY-B400, Federal Communications Commission, 445 12th Street, SW., Washington DC 20554). In addition, parties must submit a paper copy and diskette to Dana Jackson, Disabilities Rights Office, Consumer Information Bureau, Federal Communications Commission, Room 4-C746, 445 12th Street, SW., Washington DC 20554. Filings and comments are also available for inspection and copying during business hours in the Reference Information Center, Federal Communications Commission, Room CY-A257, 445 12th Street, SW., Washington DC or may be purchased from ITS. Pursuant to 47 CFR 1.1206, this proceeding will be conducted as a permit-but-disclose proceeding in which ex parte communications are permitted subject to disclosure.

Synopsis

In its First Report and Order on TRS, (56 FR 36729, August 1, 1991) the Commission established minimum operational, technical, and functional standards to fulfill this mandate. Last year, the Commission released additional minimal standards to supplement these earlier standards. Specifically, in its Improved TRS Order and FNPRM, (65 FR 38490, June 21, 2000) the Commission both expanded the scope of eligible services that would be classified to receive reimbursement as relay services, and established new criteria for relay providers to improve the quality of relay services. Among other things, the Improved TRS Order and FNPRM added speech-to-speech (STS) and interstate Spanish relay as required relay offerings, and permitted the recovery of video relay service (VRS) costs through the interstate TRS funding mechanism. The Order encouraged, but did not require the provision of VRS at the present time. On December 22, 2000, WorldCom filed a Petition for Clarification of the Improved TRS Order and FNPRM (Petition) seeking clarification that its connection to TRS via the Internet (IP Relay) is eligible for reimbursement from the Interstate TRS Fund. On May 8, 2001, representatives from WorldCom met with Commission staff to further discuss WorldCom's petition. See, Ex parte letter from Larry Fenster, WorldCom, to Magalie Salas, Secretary, Federal Communications Commission, dated May 9, 2001. Additionally, on May 18, 2000, representatives from Communications Services for the Deaf made a presentation to Commission staff on its for a similar IP-based relay service. See, Ex parte letter from Philip W. Bravin, Communications Services for the Deaf, to Magalie Salas, Secretary, Federal Communications Commission, dated May 23, 2001. Although the information gathered at these meetings, together with the formal comments submitted in response to both the Improved TRS Order and FNPRM and the informal comments submitted in response to the WorldCom petition have provided the Commission with basic information about IP Relay, it has become clear that additional information is needed before the Commission can issue a final order on this subject.

Consumer Information Bureau.
Karen Peltz Strauss,
Deputy Chief.

[FR Doc. 01-18054 Filed 7-18-01; 8:45 am]

BILLING CODE 6712-01-P